DEPARTMENT OF LABOR

Employment and Training Administration

[TA-W-60,776]

Kirchner Corporation; Golden Valley, MN; Notice of Termination of Investigation

Pursuant to Section 221 of the Trade Act of 1974, as amended, an investigation was initiated on January 17, 2007, in response to a worker petition filed by the Service Employees International Union, Local 26, on behalf of workers at Kirchner Corporation, Golden Valley, Minnesota.

The petitioning group of workers is covered by an active certification (TA-W-60,722) which expires on January 22, 2009. Consequently, further investigation in this case would serve no purpose, and the investigation has been terminated.

Signed at Washington, DC this 2nd day of February 2007.
Elliott S. Kushner,
Certifying Officer, Division of Trade Adjustment Assistance.

[FR Doc. E7-2283 Filed 2-9-07; 8:45 am]

BILLING CODE 4510-FN-P